FARM CREDIT ADMINISTRATION

12 CFR Parts 611 and 621

RIN 3052-AC44

Standards of Conduct

AGENCY: Farm Credit Administration.

ACTION: Final rule; technical amendments.

SUMMARY: On September 13, 2021, the Farm Credit Administration (FCA) issued a final rule on standards of conduct for directors and employees of Farm Credit System (System) institutions. That final rule document inadvertently failed to update two cross-references to the standards of conduct rules contained in parts 611 and 621 of the same chapter. This document makes those changes to the cross-references contained in parts 611 and 621.

DATES: Effective January 1, 2023.

FOR FURTHER INFORMATION CONTACT: Antonya Brown, Technical Editor, Office of General Counsel, Farm Credit Administration, McLean, VA 22102-5090, (703) 883-4020, TTY (703) 883-4056.

SUPPLEMENTARY INFORMATION: On Monday, September 13, 2021, FCA published in the Federal Register (86 FR 50956) a final rule amending FCA regulations governing standards of conduct for System director and employees, excluding the Federal Agricultural Mortgage Corporation, located in part 612 of chapter VI, title 12 of the Code of Federal Regulations. The rulemaking included renumbering certain sections of the existing standards of conduct provisions. In issuing the final rule, corresponding updates to standards of conduct regulatory references were inadvertently omitted. This document changes those cross-references to FCA standards of conduct contained §§ 611.1153(c)(3) and 621.30 of the same chapter.

List of Subjects in 12 CFR Parts 611 and 621

Accounting, Agriculture, Banks, Banking, Conflicts of interest, Crime, Reporting and recordkeeping requirements, Investigations, Rural areas.

Accordingly, 12 CFR parts 611 and 621 are corrected by making the following correcting amendments:

PART 611—ORGANIZATION

1. The authority citation for part 611 continues to read as follows:

Authority: Secs. 1.2, 1.3, 1.4, 1.5, 1.12, 1.13, 2.0, 2.1, 2.2, 2.10, 2.11, 2.12, 3.0, 3.1, 3.2, 3.3, 3.7, 3.8, 3.9, 4.3A, 4.12, 4.12A, 4.15, 4.20, 4.21, 4.25, 4.26, 4.27, 4.28A, 5.9, 5.17, 5.25, 7.0-7.13, 8.5(e) of the Farm Credit Act (12 U.S.C. 2002, 2011, 2012, 2013, 2020, 2021, 2071, 2072, 2073, 2091, 2092, 2093, 2121, 2122, 2123, 2124, 2128, 2129, 2130, 2154a, 2183, 2184, 2203, 2208, 2209, 2211, 2212, 2213, 2214, 2243, 2252, 2261, 2279a-2279f-1, 2279aa-5(e)); secs. 411 and 412 of Pub. L. 100-233, 101 Stat. 1568, 1638; secs. 414 of Pub. L. 100-399, 102 Stat. 989, 1004.

Subpart J—Unincorporated Business Entities

§ 611.1153 [Amended]

2. In § 611.1153, amend paragraph (c)(3) by removing the phrase “in compliance with the standards of conduct rules in §§ 612.2130 through 612.2270” and adding in its place the phrase “in compliance with the standards of conduct rules in 12 CFR 612, subpart A of this chapter.”

PART 621—ACCOUNTING AND REPORTING REQUIREMENTS

3. The authority citation for part 621 continues to read as follows:

Authority: Secs. 4.12(b)(5), 4.14, 4.14A, 4.14D, 5.17, 5.22A, 8.11 of the Farm Credit Act (12 U.S.C. 2183, 2202, 2202a, 2202d, 2252, 2257a, 2279aa-11); sec. 514 of Pub. L. 102-552.

Subpart E—Auditor Independence

§ 621.30 [Amended]

4. In § 621.30, amend the last sentence by removing the phrase “§ 612.2260 of this chapter” and adding in its place the phrase “§ 612.2180 of this chapter.”

* * * * *

Dated: October 19, 2021.
Dale Aultman,
Secretary, Farm Credit Administration.

[FR Doc. 2021-23059 Filed 10-21-21; 8:45 am]

BILLING CODE 6705-01-P